DEPARTMENT OF ENERGY

Federal Energy Regulatory Commission

[Project No. 2232-587]

Duke Energy Carolinas, LLC; Notice of Application for Amendment of License and Soliciting Comments, Motions To Intervene, and Protests

January 4, 2011.

Take notice that the following hydroelectric application has been filed with the Commission and is available for public inspection:

a. Application Type: Non-Project Use of Public Lands and Waters: Water Withdrawal.

b. Project No.: 2232-587.

c. Date Filed: December 1, 2010.

d. Applicant: Duke Energy Carolinas, LLC.

e. Name of Project: Catawba-Wateree Project.

f. Location: The Catawba-Wateree Project is located in Alexander, Burke, Caldwell, Catawba, Gaston, Iredell, Lincoln, McDowell and Mecklenburg Counties, North Carolina and Chester, Fairfield, Kershaw, Lancaster, and York Counties, South Carolina. This project does not occupy any federal lands.

g. Filed Pursuant to: Federal Power Act, 16 U.S.C. 791a-825r.

h. Applicant Contact: Mr. Kelvin K. Reagan, Lake Services Manager, Duke Energy Carolinas, LLC, P.O. Box 1006, Charlotte, North Carolina 28201-1006, (704) 382-9386.

i. FERC Contact: Rachel Price, (202) 502-8907 and e-mail: rachel.price@ferc.gov

j. Deadline for filing comments, motions to intervene, and protest: February 3, 2011.

All documents should be filed with: Secretary, Federal Energy Regulatory Commission, 888 First Street, NE., Washington, DC 20426. Please include the project number (P-2232-587) on any comments or motions filed. Comments, protests, and interventions may be filed electronically via the Internet, see 18 CFR 385.2001 (a)(1)(iii) and the instructions on the Commission's Web site under the “e-filing” link. The Commission strongly encourages electronic filings. In lieu of electronic filing, an original and eight copies of all documents may be mailed to the Secretary at the address above.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Duke Energy Carolinas, LLC requests Commission approval of an agreement that would allow Duke to authorize the City of Rock Hill, North Carolina to construct and operate expanded water intake facilities on, and to withdraw water from, Lake Wylie. A new water intake structure would be constructed beside the existing structure. The new intake structure and water line would occupy approximately 0.33 acres of land within the project boundary. Additionally, new screens with screen openings that do not exceed 0.375 inches would be installed on the new intake structure. Intake velocities at the new intake structure would not exceed 0.50 feet per second. Under the agreement, the expanded facility would have a maximum withdrawal capacity of 60 million gallons per day (MGD), a 30 MGD increase from the current approved withdrawal rate. The water intake and pump facility is located in York County, South Carolina.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filing must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2011-301 Filed 1-10-11; 8:45 am]

BILLING CODE 6717-01-P